DEPARTMENT OF JUSTICE

Notice of Lodging of Consent Decree Under the Comprehensive Environmental Response, Compensation, and Liability Act

Notice is hereby given that on July 21, 2009, a proposed Consent Decree (“Decree”) in United States v. Princeton Gamma-Tech, et al. (D.N.J.) Civil Action No. 91-809 (AET), was lodged with the United States District Court for the District of New Jersey.

The Decree recovers costs incurred by the United States in connection with the Rocky Hill Municipal Wellfield Superfund Site and the Montgomery Township Housing Development Superfund Site (the “Sites”), both located in New Jersey. Pursuant to the Decree, the Settling Defendants will pay to the United States $1,842,500 in reimbursement of past and future response costs incurred by the United States with respect to the Sites. In addition, the Settling Defendants will pay $907,500 to the State of New Jersey in reimbursement of past and future response costs and natural resource damages related to the Sites. The Decree resolves claims of the United States and the State of New Jersey pursuant to Sections 106 and 107 of the Comprehensive Environmental Response, Compensation, and Liability Act (“CERCLA”), 42 U.S.C. 9606, 9607, against the Settling Defendants with respect to the Sites.

Notice of the lodging of this Decree was provided earlier on July 31, 2009. 74 FR 38230 (July 31, 2009). The Decree has not been revised in any way, but because entry of the Decree has been delayed due to a delay in submission of settlement documents (upon which the Decree is contingent) resolving one Settling Defendant's claims against its insurance carriers, we are now providing an additional period for public comment. The Department of Justice will receive for a period of fifteen (15) days from the date of this publication comments relating to the Decree. Comments should be addressed to the Assistant Attorney General, Environmental and Natural Resources Division, and either emailed to pubcomment-ees.enrd@usdoj.gov or mailed to P.O. Box 7611, U.S. Department of Justice, Washington, DC 20044-7611, and should refer to United States v. Princeton Gamma-Tech, et al., Civil Action No. 91-809, D.J. Ref. 90-11-2-290.

During the public comment period, the Consent Decree also may be examined on the following Department of Justice Web site: http://www.usdoj.gov/enrd/Consent_Decrees.html. A copy of the Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library, please enclose a check in the amount of $14.00 (25 cents per page reproduction cost) payable to the U.S. Treasury or, if by email or fax, forward a check in that amount to the Consent Decree Library at the address given above.

Ronald Gluck,
Assistant Chief, Environmental Enforcement Section, Environment and Natural Resources Division.

[FR Doc. 2012-6494 Filed 3-16-12; 8:45 am]

BILLING CODE 4410-15-P